DEPARTMENT OF HOMELAND SECURITY

Transportation Security Administration

New Agency Information Collection Activity Under OMB Review: TSA Web Site Usability Development: Focus Groups and Online Survey

AGENCY: Transportation Security Administration, DHS.

ACTION: Notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on June 9, 2006, 71 FR 33478.

DATES: Send your comments by November 30, 2006. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Katrina Kletzly, Attorney-Advisor, Office of the Chief Counsel, TSA-2, Transportation Security Administration, 601 South 12th Street, Arlington, VA 22202-4220; telephone (571) 227-1995; facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Web Site Usability Development: Focus Groups and Online Survey.

Type of Request: New collection.

OMB Control Number: Not yet assigned.

Form(s): NA.

Affected Public: Visitors to the TSA Web site; travelers at airports who volunteer for focus groups.

Abstract: In order to provide a useful public Web site, TSA seeks to administer two data collections, “Web site Focus Groups” and “Web site Online Survey,” to obtain feedback concerning the usability, content, focus and user satisfaction of TSA's Web site. TSA will use the data obtained through these collection methods to deliver effective and engaging information to meet customers' needs and continuously improve TSA's Web site usability. TSA intends to conduct 15 Web site focus groups annually, each with a target of 10 total participants and an estimate of a 1 hour burden per respondent. TSA estimates a maximum total annual burden of 150 hours (10 participant hours per focus group session times 15 focus group sessions equals 150 hours total). TSA also intends to conduct voluntary Web site surveys to collect data for improved content and usability, which will be available via the TSA Web site (http://www.tsa.gov). Surveys will comprise an approximate five-minute burden per respondent and an aggregate burden of 34 hours per year, based on an estimated 400 online surveys voluntarily completed per year (400 surveys times 5 minutes per survey equals 2000 minutes total, which is then divided by 60 minutes, resulting in 34 hours total).

Number of Respondents: 550.

Estimated Annual Burden Hours: An estimated 184 hours annually.

Issued in Arlington, Virginia, on October 24, 2006.
Peter Pietra,
Director of Privacy Policy and Compliance.

[FR Doc. E6-18212 Filed 10-30-06; 8:45 am]

BILLING CODE 9110-05-P